INTERNATIONAL TRADE COMMISSION

[Investigation No. 731-TA-1092 (Second Review)]

Diamond Sawblades and Parts Thereof From China

Determination

On the basis of the record ¹ developed in the subject five-year review, the United States International Trade Commission (“Commission”) determines, pursuant to the Tariff Act of 1930 (“the Act”), that revocation of the antidumping duty order on diamond sawblades and parts thereof from China would be likely to lead to continuation or recurrence of material injury to an industry in the United States within a reasonably foreseeable time.

¹ The record is defined in § 207.2(f) of the Commission's Rules of Practice and Procedure (19 CFR 207.2(f)).

Background

The Commission instituted this review on August 3, 2020 (85 FR 46719) and determined on November 6, 2020 that it would conduct an expedited review (86 FR 10597, February 22, 2021).

The Commission made this determination pursuant to section 751(c) of the Act (19 U.S.C. 1675(c)). It completed and filed its determination in this review on March 30, 2021. The views of the Commission are contained in USITC Publication 5176 (March 2021), entitled Diamond Sawblades and Parts Thereof from China: Investigation No. 731-TA-1092 (Second Review).

By order of the Commission.
Issued: March 30, 2021.
Lisa Barton,
Secretary to the Commission.

[FR Doc. 2021-06852 Filed 4-1-21; 8:45 am]

BILLING CODE 7020-02-P